DEPARTMENT OF EDUCATION

Disability and Rehabilitation Research Projects and Centers Program; Field Initiated (FI) Projects; Office of Special Education and Rehabilitative Services; Overview Information; National Institute on Disability and Rehabilitation Research (NIDRR)—Disability and Rehabilitation Research Projects and Centers Program—Field Initiated (FI) Projects

AGENCY: Office of Special Education and Rehabilitative Services, Department of Education.

ACTION: Notice reopening the FI Projects fiscal year (FY) 2011 competition.

Catalog of Federal Domestic Assistance (CFDA) Numbers: 84.133G-1 (Research) and 84.133G-2 (Development).

SUMMARY: On December 6, 2010, we published in the Federal Register (75 FR 75666-75671) a notice inviting applications for new awards for the FI Projects FY 2011 competition. That notice established a February 4, 2011 deadline date for eligible applicants to apply for funding under this competition.

The Department of Education announces the reopening of the FI Projects FY 2011 competition. We are establishing a new deadline date for the transmittal of applications for the FY 2011 competition to ensure that potential applicants who were affected by severe winter storms around the time of the original deadline will have sufficient time to prepare and submit their applications. This reopening and extension of the competition is intended to help potential applicants who were affected by severe winter storms compete fairly with other applicants under this competition.

Eligibility: The new deadline date in this notice applies to all eligible applicants for the FI Projects FY 2011 competition (i.e., States; public or private agencies, including for-profit agencies; public or private organizations, including for-profit organizations; institutions of higher education (IHEs); and Indian Tribes and Tribal organizations), regardless of whether they were affected by severe winter storms. If you have already successfully submitted an application for the FI Projects FY 2011 competition, you may resubmit your application (either with or without revisions). However, if you successfully submitted an application by the original deadline date, you do not need to do so in order to be considered for a grant award under this competition. If you re-submit an application under this reopening notice, the Department will consider the application you submit last provided that it is submitted by the new deadline date.

Deadline for Transmittal of Applications: March 14, 2011.

Note: Applications for grants under this program must be submitted electronically using the Government-wide Grants.gov apply site at http://www.Grants.gov. For information (including dates and times) about how to submit your application electronically, or in paper format by mail or hand delivery if you qualify for an exception to the electronic submission requirement, please refer to section IV. 7.

Other Submission Requirements of the December 6, 2010 notice inviting applications for new awards for FI Projects for FY 2011 (75 FR 75666, 75668). We encourage applicants to submit their applications as soon as possible to avoid any problems with filing electronic applications on the last day.

FOR FURTHER INFORMATION CONTACT: Either Lynn Medley or Marlene Spencer as follows: Lynn Medley, U.S. Department of Education, 400 Maryland Avenue, SW., room 5140, PCP, Washington, DC 20202-2700. Telephone: (202) 245-7338 or by e-mail: Lynn.Medley@ed.gov. Marlene Spencer, U.S. Department of Education, 400 Maryland Avenue, SW., room 5133, PCP, Washington, DC 20202-2700. Telephone: (202) 245-7532 or by e-mail: Marlene.Spencer@ed.gov.

If you use a TDD, call the Federal Relay Service (FRS), toll free, at 1-800-877-8339.

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 3, 2011.
Alexa Posny,
Assistant Secretary for Special Education and Rehabilitative Services.

[FR Doc. 2011-5245 Filed 3-7-11; 8:45 am]

BILLING CODE 4000-01-P